DEPARTMENT OF TRANSPORTATION

Office of the Secretary

Aviation Proceedings, Agreements Filed Between August 4 and August 15, 2003

The following Agreements were filed with the Department of Transportation under the provisions of 49 U.S.C. 412 and 414. Answers may be filed within 21 days after the filing of the application

Agreements filed during week ending August 8, 2003:

Docket Number: OST-2003-15916.

Date Filed: August 8, 2003.

Parties: Members of the International Air Transport Association.

Subject: Mail Vote 319, PTC3 0653 dated 8 August 2003, Resolution 010x—Special Passenger Amending, Resolution between Korea (Rep. of) and China (excluding Hong Kong SAR and Macao SAR) r1-r5, Intended effective date: 1 September 2003.

Docket Number: OST-2003-15917.

Date Filed: August 8, 2003.

Parties: Members of the International Air Transport Association.

Subject: PTC1 0264 dated 8 August 2003, TC1 Caribbean Expedited Resolutions 002zz and 015v r1-r6, Intended effective date: 15 September 2003.

]

Docket Number: OST-2003-15918.

Date Filed: August 8, 2003.

Parties: Members of the International Air Transport Association.

Subject: PTC1 0265 dated 8 August 2003, TC1 Longhaul (except USA-Chile, Panama), Expedited Resolution 002t r1-r5, Intended effective date: 15 September 2003.

Docket Number: OST-2003-15919.

Date Filed: August 8, 2003.

Parties: Members of the International Air Transport Association.

Subject: PTC1 0266 dated 8 August 2003, TC1 Within South America Expedited Resolution 002w, Intended effective date: 15 September 2003.

Docket Number: OST-2003-15923.

Date Filed: August 8, 2003.

Parties: Members of the International Air Transport Association.

Subject: PTC2 EUR-ME 0168 dated 15 July 2003, TC12 Europe-Middle East Resolutions r1-r23, Technical Correction—PTC2 EUR-ME 0171 dated 31 July 2003, Minutes—PTC2 EUR-ME 0173 dated 8 August 2003, Tables—PTC2 EUR-ME Fares 0082 dated 1 August 2003, Intended effective date: 1 January 2004.

Agreement filed during week ending August 15, 2003:

Docket Number: OST-2003-15963.

Date Filed: August 14, 2003.

Parties: Members of the International Air Transport Association.

Subject: PTC12 USA-EUR Fares 0079 dated 18 July 2003, Resolution 015h—USA Add-Ons between USA and UK, Intended effective date: 1 October 2003.

Andrea M. Jenkins,
Program Manager, Docket Operations, Federal Register Liaison.

[FR Doc. 03-22094 Filed 8-28-03; 8:45 am]

BILLING CODE 4910-62-P